DEPARTMENT OF DEFENSE

Office of the Secretary

Strategic Environmental Research and Development Program, Scientific Advisory Board; Notice of Federal Advisory Committee Meeting

AGENCY: Department of Defense.

ACTION: Notice.

SUMMARY: The Department of Defense is publishing this notice to announce an open meeting of the Strategic Environmental Research and Development Program, Scientific Advisory Board (SAB). This meeting will be open to the public.

DATES: Wednesday, June 11, 2014, from 8:00 a.m. to 4:50 p.m.

ADDRESSES: Peery Hotel, 110 West Broadway, Salt Lake City, UT 84101.

FOR FURTHER INFORMATION CONTACT: Mr. Jonathan Bunger, SERDP Office, 4800 Mark Center Drive, Suite 17D08, Alexandria, VA 22350-3605; jonathan.p.bunger.ctr@mail.mil or by telephone at (571) 372-6384.

SUPPLEMENTARY INFORMATION: This meeting is being held under the provisions of the Federal Advisory Committee Act of 1972 (5 U.S.C. Appendix, as amended), the Government in the Sunshine Act of 1976 (5 U.S.C. 552b, as amended), and 41 CFR 102-3.150. This notice is published in accordance with Section 10(a)(2) of the Federal Advisory Committee Act (Pub. L. 92-463).

Pursuant to 5 U.S.C. 552b and 41 CFR 102-3.140 through 102-3.165, and the availability of space, this meeting is open to the public. Seating is on a first-come basis.

The purpose of the June 11, 2014 meeting is to review new start and continuing research and development projects requesting Strategic Environmental Research and Development Program funds in excess of $1 million over the proposed length of the project as required by the SERDP Statute, U.S. Code ‐ Title 10, Subtitle A, Part IV, Chapter 172, § 2904. The full agenda follows:

8:00 a.m. | Convene/Opening Remarks, Approval of December 2013 Minutes | Mr. Joseph Francis, Chair.
8:05 a.m. | Program Update | Dr. Anne Andrews, Acting Executive Director.
8:20 a.m. | Resource Conservation and Climate Change Overview | Dr. John Hall, Resource Conservation and Climate Change, Program Manager.
8:30 a.m. | RC-2245: Defense Coastal/Estuarine Research Program (DCERP), (FY15 Continuing) | Dr. Patricia Cunningham, RTI International, Research Triangle Park, NC.
10:00 a.m. | Break
10:15 a.m. | RC-2245: Defense Coastal/Estuarine Research Program (DCERP), (FY15 Continuing) | Dr. Patricia Cunningham, RTI International, Research Triangle Park, NC.
12:05 p.m. | Lunch
1:00 p.m. | Resource Conservation and Climate Change Overview | Dr. John Hall, Resource Conservation and Climate Change, Program Manager.
1:10 p.m. | 14 RC01-029 (RC-2441): Restoring Function to a Novel Ecosystem in the Presence of One of the World's Most Destructive Invasive Species (FY14 New Start) | Dr. Haldre Rogers, Rice University, Houston, TX.
1:55 p.m. | Toxiciology Studies in SERDP Projects | Dr. Robin Nissan, Weapons Systems and Platforms, Program Manager. Dr. Patricia Underwood, Program Manager, Chemical and Material Risk Management, DUSD(I&E).
2:55 p.m. | Break
3:05 p.m. | Emerging Contaminants | Mr. Paul Yaroshak, Program Manager, Chemical and Material Risk Management, DUSD(I&E).
3:35 p.m. | Addressing DoD's Most Challenging Groundwater Sites | Dr. Andrea Leeson, Deputy Director and Environmental Restoration Program Manager.
4:05 p.m. | Climate Change Initiatives in DoD: SERDP's Role | Dr. John Hall, Resource Conservation and Climate Change, Program Manager.
4:50 p.m. | Public Discussion/Adjourn

Pursuant to 41 CFR 102-3.105(j) and 102-3.140, and section 10(a)(3) of the Federal Advisory Committee Act of 1972, the public or interested organizations may submit written statements to the Strategic Environmental Research and Development Program, Scientific Advisory Board. Written statements may be submitted to the committee at any time or in response to an approved meeting agenda.

All written statements shall be submitted to the Designated Federal Officer (DFO) for the Strategic Environmental Research and Development Program, Scientific Advisory Board. The DFO will ensure that the written statements are provided to the membership for their consideration. Contact information for the DFO can be obtained from the GSA's FACA Database at http://www.facadatabase.gov/.

Time is allotted at the close of each meeting day for the public to make comments. Oral comments are limited to 5 minutes per person.

Dated: May 7, 2014.
Aaron Siegel,
Alternate OSD Federal Register Liaison Officer, Department of Defense.

[FR Doc. 2014-10864 Filed 5-12-14; 8:45 am]

BILLING CODE 5001-06-P